UNITED STATES ELECTION ASSISTANCE COMMISSION

Sunshine Act; Meeting

ACTION: Notice of public meeting for EAC Standards Board.

Date & Time: Wednesday, August 24, 2005, 8:30 a.m.-5 p.m. and Thursday, August 25, 2005, 8:30 a.m.-5 p.m.

Place: Adam's Mark Hotel, 1550 Court Place, Denver, CO 80202.

Topics: The U.S. Election Assistance Commission (EAC) Standards Board, as required by the Help America Vote Act of 2002, will meet to consider and adopt bylaws, to consider and receive presentations on the Voluntary Voting System Guidelines proposed by EAC, to formulate recommendations to EAC, and to handle other administrative matters.

Person to Contact for Information: Bryan Whitener, telephone: (202) 566-3100.

Gracia M. Hillman,
Chair, U.S. Election Assistance Commission.

[FR Doc. 05-14911 Filed 7-22-05; 4:20 pm]

BILLING CODE 6820-KF-M